DEPARTMENT OF COMMERCE

International Trade Administration

[C-570-177]

Certain Low-Speed Personal Transportation Vehicles From the People's Republic of China: Final Affirmative Countervailing Duty Determination and Final Affirmative Determination of Critical Circumstances

AGENCY: Enforcement and Compliance, International Trade Administration, Department of Commerce.

SUMMARY: The U.S. Department of Commerce (Commerce) determines that countervailable subsidies are being provided to producers and exporters of certain low-speed personal transportation vehicles (LSPTVs) from the People's Republic of China (China). The period of investigation is January 1, 2023, through December 31, 2023.

DATES: Applicable June 23, 2025.

FOR FURTHER INFORMATION CONTACT: Dan Alexander, AD/CVD Operations, Office VII, Enforcement and Compliance, International Trade Administration, U.S. Department of Commerce, 1401 Constitution Avenue NW, Washington, DC 20230; telephone: (202) 482-4313.

SUPPLEMENTARY INFORMATION:

Background

On December 6, 2024, Commerce published the Preliminary Determination in the Federal Register, invited interested parties to comment on the Preliminary Determination, and aligned this countervailing duty (CVD) investigation with the final determination in the less-than-fair value investigation of LSPTVs from China, in accordance with section 705(a)(1) of the Tariff Act of 1930, as amended (the Act), and 19 CFR 351.210(b)(4).¹

¹ See Certain Low-Speed Personal Transportation Vehicles from the People's Republic of China: Preliminary Affirmative Countervailing Duty Determination, Preliminary Affirmative Determination of Critical Circumstances, in Part, and Alignment of Final Determination with Final Antidumping Duty Determination, 89 FR 96942 (December 6, 2024) (Preliminary Determination), and accompanying Preliminary Decision Memorandum (PDM).

For a complete description of the events that followed the Preliminary Determination, see the Issues and Decision Memorandum.² The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

² See Memorandum, “Issues and Decision Memorandum for the Final Affirmative Determination in the Countervailing Duty Investigation of Certain Low-Speed Personal Transportation Vehicles from the People's Republic of China,” dated concurrently with, and hereby adopted by, this notice (Issues and Decision Memorandum).

Scope of the Investigation

The products covered by this investigation are LSPTVs from China. For a complete description of the scope of this investigation, see Appendix I.

Scope Comments

In the Preliminary Scope Memorandum, we set aside a period of time for parties to raise issues regarding product coverage (i.e., scope) in scope-specific case briefs or other written comments on scope issues.³ Between February 27 and March 6, 2025, Commerce received a scope case briefs from the American Personal Transportation Vehicle Manufacturers Coalition (the petitioner) and Star EV Corporation (Star EV), and rebuttal briefs from Wink Motors, Inc. (Wink), Nivel Parts and Manufacturing Co., LLC (Nivel), and the petitioner.⁴ For a summary of the product coverage comments and rebuttal responses submitted to the record for this final determination, and accompanying discussion and analysis of all comments timely received, see the Final Scope Memorandum.⁵ In the Final Scope Memorandum, Commerce determined that it is modifying the scope language as it appeared in the Initiation Notice. See Appendix I.

³ See Memorandum, ” Less-Than-Fair-Value and Countervailing Duty Investigations of Certain Low Speed Personal Transportation Vehicles from the People's Republic of China: Preliminary Scope Decision Memorandum,” dated January 23, 2025 (Preliminary Scope Decision Memorandum).

⁴ See Petitioner's Letter, ” Scope Case Brief,” dated February 27, 2025; see also Star EV's Letter, “Scope Brief,” dated February 27, 2025; Wink's Letter, “Rebuttal Case Brief to Petitioner's Scope Case Brief of February 27, 2025,” dated March 6, 2025; Nivel's Letter, “Scope Rebuttal Brief,” dated March 6, 2025; and Petitioner's Letter, “Scope Rebuttal Brief,” dated March 6, 2025.

⁵ See Memorandum, “Less-Than-Fair-Value and Countervailing Duty Investigations of Certain Low Speed Personal Transportation Vehicles from the People's Republic of China: Final Scope Decision Memorandum,” dated concurrently with this notice (Final Scope Decision Memorandum).

Verification

As provided in section 782(i) the Act, between April 9 and April 16, 2025, Commerce conducted verification of the subsidy information reported by Guangdong Lvtong New Energy Vehicle Technology Co., Ltd. (Lvtong), and Xiamen Dalle New Energy Automobile Co., Ltd. (Xiamen Dalle) (collectively, the respondents).⁶ We used Commerce's standard verification procedures, which include an examination of relevant accounting records and original source documents provided by the respondents.

⁶ See Memoranda, “Verification of Questionnaire Responses Submitted by Guangdong Lvtong New Energy Electric Vehicle Technology Co., Ltd.,” dated May 9, 2025; and “Verification of Questionnaire Responses Submitted by Xiamen Dalle New Energy Automobile Co., Ltd.,” dated May 9, 2025.

Analysis of Subsidy Programs and Comments Received

The subsidy programs under investigation and the issues raised in the case and rebuttal briefs by parties are discussed in the Issues and Decision Memorandum. For a list of topics discussed, and the issues raised by parties to which we responded in the Issues and Decision Memorandum, see Appendix III.

Changes Since the Preliminary Determination

Based on our review and analysis of the information received during verification and comments received from parties, for this final determination, we made certain changes to the countervailable subsidy rate calculations for Lvtong, Xiamen Dalle, the non-responsive companies, and for all other producers/exporters. For a discussion of these changes, see the Issues and Decision Memorandum.

Methodology

Commerce conducted this investigation in accordance with section 701 of the Act. For each of the subsidy programs found to be countervailable, Commerce determines that there is a subsidy, i.e., a financial contribution by an “authority” that gives rise to a benefit to the recipient, and that the subsidy is specific.⁷ For a full description of the methodology underlying our final determination, see the Issues and Decision Memorandum.

⁷ See sections 771(5)(B) and (D) of the Act regarding financial contribution; see also section 771(5)(E) of the Act regarding benefit; and section 771(5A) of the Act regarding specificity.

In making this final determination, Commerce relied, in part, on facts otherwise available, including with an adverse inference, pursuant to sections 776(a) and (b) of the Act. For a full discussion of our application of adverse facts available (AFA), see the Preliminary Determination.⁸

⁸ See Preliminary Determination PDM at section, “Use of Facts Available and Adverse Inferences.”

Final Affirmative Analysis of Critical Circumstances

Commerce preliminarily determined, in accordance with section 703(e)(1) of the Act and 19 CFR 351.206(c)(1), that critical circumstances existed with respect to imports of LSPTVs produced and/or exported by Lvtong and the non-responsive companies,⁹ but that critical circumstances did not exist with respect to imports of LSPTVs produced and/or exported by Xiamen Dalle or for all other producers and/or exporters.¹⁰

⁹ Commerce did not receive responses to its quantity and value questionnaire from Shandong Odes Industry Co., Ltd., or from Hebei Machinery Import and Export Co., Ltd. (collectively, the non-responsive companies). See Preliminary Determination PDM at, generally, 3, 8, and 13-19.

¹⁰ See Preliminary Determination PDM at 5-8.

For the final determination, pursuant to section 705(a)(2) of the Act and 19 CFR 351.206, we are now finding that critical circumstances exist for Lvtong, Xiamen Dalle, all other producers and/or exporters, and for the non-responsive companies. With respect to finding that critical circumstances exist for Xiamen Dalle, we relied on facts otherwise available, including with an adverse inference, pursuant to sections 776(a) and (b) of the Act. For a full description of the methodology and results of Commerce's critical circumstances analysis, see the Issues and Decision Memorandum.

All-Others Rate

Pursuant to section 705(c)(5)(A)(i) of the Act, Commerce will determine an all-others rate equal to the weighted average countervailable subsidy rates established for those exporters and/or producers individually investigated, excluding any zero and de minimis countervailable subsidy rates and any rates based entirely under section 776 of the Act.

In this investigation, Commerce calculated total net countervailable subsidy rates for Lvtong and Xiamen Dalle that are not zero, de minimis, or based entirely on facts otherwise available. Because Commerce calculated individual estimated countervailable subsidy rates for Xiamen Dalle and Lvtong that are not zero, de minimis, or based entirely on facts otherwise available, Commerce calculated the all-others rate using a weighted average of the individual estimated subsidy rates calculated for the examined respondents using each company's publicly-ranged sales value for their exports to the United States of subject merchandise,¹¹ in accordance with section 705(c)(5)(A)(i) of the Act.

¹¹ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Administrative Reviews, Final Results of Changed-Circumstances Review, and Revocation of an Order in Part, 75 FR 53661, 53663 (September 1, 2010); see also Forged Steel Fluid End Blocks from Italy: Preliminary Affirmative Countervailing Duty Determination, and Alignment of Final Determination with Final Antidumping Duty Determination, 85 FR 31460, 31461 (May 26, 2020), unchanged in Forged Steel Fluid End Blocks from Italy: Final Affirmative Countervailing Duty Determination, 85 80022, 80023 (December 11, 2020).

In the Preliminary Determination, Commerce assigned a countervailable subsidy rate on the basis of facts otherwise available with an adverse inference, pursuant to sections 776(a) and (b) of the Act, to Hebei Machinery Import and Export Co., LTD. and Shandong Odes Industry Co. Ltd.¹² There is no new information on the record that would cause us to revisit our decision in the Preliminary Determination. Thus, as AFA, Commerce continues to base the countervailable subsidy rate for the non-responsive companies on facts otherwise available in our final determination.

¹² See Preliminary Determination.

Final Determination

Commerce determines that the following net countervailable subsidy rates exist for the period of January 1, 2023, through December 31, 2023:

Company | Subsidy rate (percent ad valorem)
Guangdong Lvtong New Energy Electric Vehicle Technology Co., Ltd | 31.45
Hebei Machinery Import and Export Co., LTD | * 679.44
Shandong Odes Industry Co. Ltd | * 679.44
Xiamen Dalle New Energy Automobile Co., Ltd | 44.38
All Others | 41.14
* Rate based on facts available with adverse inferences.

Disclosure

Commerce intends to disclose its calculations performed to interested parties in this final determination within five days of its public announcement, or if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after December 6, 2024, the date of publication of the Preliminary Determination in the Federal Register. In accordance with section 703(d) of the Act, we instructed CBP to discontinue the suspension of liquidation of all entries of subject merchandise entered or withdrawn from warehouse, on or after April 5, 2025, the final day of provisional measures, but to continue the suspension of liquidation of all entries of subject merchandise on or before April 4, 2025.

As noted above, Commerce is finding that critical circumstances exist for Xiamen Dalle and for all other producers and/or exporters. Accordingly, pursuant to section 703(e)(2)(A) of the Act, Commerce will instruct CBP to suspend liquidation of all appropriate entries from Xiamen and all other producers and/or exporters, which were entered, or withdrawn from warehouse, for consumption on or after 90 days prior to the date of publication of the Preliminary Determination in the Federal Register.

If the U.S. International Trade Commission (ITC) issues a final affirmative injury determination, we will issue a CVD order, reinstate the suspension of liquidation under section 706(a) of the Act, and require a cash deposit of estimated countervailing duties for such entries of subject merchandise in the amounts indicated above. Pursuant to section 705(c)(2) of the Act, if the ITC determines that material injury, or threat of material injury, does not exist, this proceeding will be terminated, and all estimated duties deposited, or securities posted, as a result of the suspension of liquidation will be refunded or canceled.

Certification Requirements

With this final determination, Commerce has imposed certification requirements for certain entries of LSPTV components (i.e., Chinese-origin seat assemblies, steering column assemblies, suspension systems, plastic cowlings, or motors (regardless of whether electric or gas powered)) that could be used to produce LSPTVs or subassembly/rolling chassis thereof. Commerce has determined it appropriate to require that entries made on or after the publication of this final determination be certified with the importer certification detailed at Appendix II to this notice. Entries made within 15 days of publication of this final determination in the Federal Register must be certified as soon as applicable, but no later than 45 days after the date of the publication of this determination. Entries made after 16 days of publication of this final determination in the Federal Register must be certified at the time of entry summary filing.

The importer, or the importer's agent, must submit the importer's certification and supporting documents (i.e., bill of lading and commercial invoice) to CBP as part of the entry process by uploading them into the document imaging system in CBP's Automated Commercial Environment. Consistent with CBP's procedures, importers shall identify entries required to have certifications by using importer's additional declaration (record 54) AD/CVD Certification Designation (type code 06) when filing entry summary.

Additionally, the claims made in the importer's certification and supporting documentation are subject to verification by Commerce and/or CBP. Importers are required to maintain the certifications and supporting documentation for the later of: (1) the date that is five years after the latest entry date of the entries covered by the certification; or (2) the date that is three years after the conclusion of any litigation in United States courts regarding such entries.

If it is determined that an importer has not met the certification and/or related documentation requirements for certain entries, Commerce intends to instruct CBP to suspend all unliquidated entries for which the importer has failed to supply this information and require the posting of a cash deposit on the total entered value of LSPTVs equal to the cash deposit rate for the China-wide entity in effect at the time of the entry.

ITC Notification

In accordance with section 705(d) of the Act, Commerce will notify the ITC of its final affirmative determination that countervailable subsidies are being provided to producers and/or exporters of LSPTVs from China. Because Commerce's final determination is affirmative, in accordance with section 705(b) of the Act, the ITC will determine, within 45 days, whether the domestic industry in the United States is materially injured, or threated with material injury, by reason of import of LSPTVs from China. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

If the ITC determines that material injury or threat of material injury does not exist, this proceeding will be terminated and all cash deposits will be refunded. If the ITC determines that such injury does exist, Commerce will issue a CVD order directing CBP to assess, upon further instruction by Commerce, countervailing duties on all imports of the subject merchandise that are entered, or withdrawn from warehouse, for consumption on or after the effective date of the suspension of liquidation, as discussed above in the “Continuation of Suspension of Liquidation” section.

Administrative Protective Order

In the event that the ITC issues a final negative injury determination, this notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i)(1) of the Act, and 19 CFR 351.210(c).

Dated: June 16, 2025.
Abdelali Elouaradia,
Deputy Assistant Secretary for Enforcement and Compliance.

Appendix I

Scope of the Investigation

The merchandise covered by this investigation consists of certain low speed personal transportation vehicles (LSPTVs) and subassemblies thereof, whether finished or unfinished and whether assembled or unassembled, with or without tires, wheels, seats, steering columns and steering wheels, canopies, roofs, or batteries. LSPTVs meeting this description are generally open-air vehicles, i.e., may have a permanent roof, may have a permanent windshield, and may be covered with temporary sides, with a minimum of four wheels, a steering wheel, a traditional side-by-side or in-line row seating arrangement (i.e., non-straddle), foot operated accelerator and brake pedals, and a gross vehicle weight of no greater than 5,500 pounds. Vehicles with a roof and four sides with doors and windows permanently integrated into the chassis at the time of production (e.g., the sides are welded to the chassis and roof) are not subject to the order.

The main power source for subject LSPTVs is either an electric motor and battery (including but not limited to lithium-ion batteries, lithium phosphate batteries, lead acid batteries, and absorbed glass mat batteries) or a gas-powered internal combustion engine. Subject LSPTVs may be described as golf carts, golf cars, low speed vehicles, personal transportation vehicles, or light utility vehicles.

LSPTVs subject to this investigation should have a maximum top nameplate speed of no greater than 25 miles per hour as required by federal, state, and local laws and regulations. Subject LSPTVs with a maximum top nameplate speed greater than 20 miles per hour normally must comply with the U.S. Department of Transportation's Federal Motor Vehicle Safety Standards for Low-Speed Vehicles set forth in 49 CFR 571.500. LSPTVs that otherwise meet the physical description of this scope but are not certified under 49 CFR 571.500 and are not certified under other sections of subpart B of the Federal Motor Vehicle Safety Standards (49 CFR part 571), are not excluded from the investigation. LSPTVs that are certified under both 49 CFR 571.500 and other sections of subpart B of the Federal Motor Vehicle Safety Standards remain subject to the scope of the investigation. Subject LSPTVs that have a maximum top nameplate speed of less than 25 miles per hour may be certified to the SAE International (SAE) standards SAE J2258 and SAE J2358. LSPTVs that have a maximum top nameplate speed of less than 20 miles per hour may also be certified to the Outdoor Power Equipment Institute (OPEI) standards OPEI Z130.1 and OPEI Z135. The SAE and OPEI standards provided above are for reference purposes only, and whether merchandise is certified to those standards is not dispositive of whether that merchandise is subject to this investigation.

An unfinished and/or unassembled LSPTV subject to this investigation covers at a minimum a subassembly, also known as a “rolling chassis,” which is typically comprised of, but not limited to, a frame or body with front and/or rear suspension components (such as arms, springs, axles, spindles, and shafts) installed and powertrain components (including either an electric motor or a gas-powered internal combustion engine) installed or ready for installation.

When imported together with a rolling chassis subject to the investigation, other LSPTV components, such as batteries, bumpers, wheel and tire assemblies, cowlings, fenders, grills, kick plates, steering column and steering wheel assemblies, dash assembly, seat assemblies, pedal assemblies, brake assemblies, canopy or roof assemblies, temporary rain enclosures, windshields, mirrors, headlights, taillights, lighting systems, or storage—whether assembled or unassembled, whether as part of a kit or not, and whether or not accompanied by additional components—constitute part of an unfinished and/or unassembled LSPTV that is subject to the investigation. The inclusion of other products, components, or assemblies not described here does not remove the product from the scope.

Subject LSPTVs and subassemblies are covered by the scope of this investigation whether or not they are accompanied by other parts. This investigation covers all LSPTVs and subassemblies meeting the physical description of the scope, regardless of overall length, width, or height. The following individual components of Chinese origin that are entered by themselves on separate bills of lading (i.e., not on the same bills of lading as Chinese-origin subject subassemblies/rolling chassis) are not subject to the investigation when accompanied by the appropriate certification: seat assemblies, steering columns, suspension systems, plastic cowlings, and electric and gas-powered motors suitable for use in LSPTV. When entered with (i.e., on the same bill of lading as) a Chinese-origin LSPTV or subject rolling chassis, whether finished or unfinished and whether assembled or unassembled, or when entered without the appropriate certification, these components are subject merchandise.

LSPTVs and subassemblies subject to this investigation include those that are produced in the subject country whether assembled with other components in the subject country or in a third country. Processing or completion of finished and unfinished LSPTVs and subassemblies either in the subject country or in a third country does not remove the product from the scope.

Specifically excluded from the scope of this investigation are all-terrain vehicles (which typically have straddle seating and are steered by handlebars), multipurpose off-highway utility vehicles (which have a maximum top nameplate speed of greater than 25 miles per hour), and recreational off-highway vehicles (which have a maximum top nameplate speed of greater than 30 miles per hour). Also excluded from the scope are go-karts, electric scooters, golf trolleys, and mobility aids (which include power wheelchairs and scooters which are used for the express purpose of enabling mobility for a person).

The LSPTVs subject to this investigation are typically classified in the Harmonized Tariff Schedule of the United States (HTSUS) at subheading 8703.10.5030. LSPTVs subject to the investigation may also enter under HTSUS subheading 8703.10.5060 and 8703.90.0100. The LSPTV subassemblies that are subject to the investigation typically enter under HTSUS subheadings 8706.00.1540 and 8707.10.0040. The HTSUS subheadings are provided for convenience and customs purposes only, and the written description of the merchandise subject to the investigation is dispositive.

Appendix II

Importer Certification

I hereby certify that:

A. My name is {NAME of IMPORTING COMPANY OFFICIAL} and I am an official of {NAME OF IMPORTING COMPANY}, located at {ADDRESS OF IMPORTING COMPANY}.

B. I have direct personal knowledge of the facts regarding the importation into the Customs territory of the United States of the products that entered under entry summary number(s), identified below, and are covered by this certification. “Direct personal knowledge” refers to facts the certifying party is expected to have in its own records.

C. If the importer is acting on behalf of the first U.S. customer, include the following sentence as paragraph C of this certification:

The product(s) covered by this certification was/were imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

D. The product(s) covered by this certification were shipped to {NAME OF PARTY IN THE UNITED STATES TO WHOM THE MERCHANDISE WAS FIRST SHIPPED}, located at {U.S. ADDRESS TO WHICH MERCHANDISE WAS SHIPPED}.

E. This certification applies to the following entries (repeat this block as many times as necessary):

Entry Summary #:

Entry Summary Line Item #:

F. I am importing Chinese-origin seat assemblies, steering column assemblies, suspension systems, plastic cowlings, or motors (regardless of whether electric or gas powered) that could be used to produce low speed personal transportation vehicles (LSPTVs) or subassemblies thereof.

(i) I certify that the parts (i.e., Chinese-origin seat assemblies, steering column assemblies, suspension systems, plastic cowlings, or motors) that I am importing are not being imported together with subject subassemblies (i.e., rolling chassis) or subject unfinished LSPTVs. Imported together means on the same bill of lading. Parts on the same bill of lading are considered to be imported together even if they are entered in different containers, separate entries, or on different invoices. A subassembly (i.e., rolling chassis) is subject to the Order if it meets the definition of a rolling chassis as described by the scope of this order.

(ii) I also certify that neither my company nor a related entity will assemble these parts with a subject subassembly or a subject unfinished LSPTV to produce an LSPTV. For purposes of this certification, a related entity is any entity that has a connection to the importer, whether through ownership, control, contracts, or close supplier/customer relationship.

G. I understand that {IMPORTING COMPANY} is required to submit a copy of the importer certification, the commercial invoice, and the bill of lading as part of the entry summary by uploading them into the document imaging system (DIS) in ACE, and to provide U.S. Customs and Border Protection (CBP) and/or the U.S. Department of Commerce (Commerce) with the importer certification, and any supporting documentation upon request of either agency.

H. I understand that {IMPORTING COMPANY} is required to maintain a copy of this certification and sufficient documentation supporting this certification (i.e., documents maintained in the normal course of business, or documents obtained by the certifying party) until the later of (1) the date that is five years after the latest entry date of the entries covered by the certification or (2) the date that is three years after the conclusion of any litigation in the United States courts regarding such entries.

I. I understand that the claims made herein, and the substantiating documentation, are subject to verification by CBP and/or Commerce.

J. I understand that failure to maintain the required certification and supporting documentation, or failure to substantiate the claims made herein, or not allowing CBP and/or Commerce to verify the claims made herein, may result in a de facto determination that all entries to which this certification applies are within the scope of the antidumping duty and countervailing duty orders on certain low speed personal transportation vehicles and subassemblies thereof from China. I understand that such finding will result in:

(i) suspension of liquidation of all unliquidated entries (and entries for which liquidation has not become final) for which these requirements were not met;

(ii) the importer being required to post the antidumping duty and countervailing duty cash deposits determined by Commerce; and

(iii) the importer no longer being allowed to participate in the certification process.

K. I understand that agents of the importer, such as brokers, are not permitted to make this certification.

L. This certification was completed by the time of filing the entry summary or within 45 days of the date on which Commerce published notice of its antidumping duty and countervailing duty orders on certain low speed personal transportation vehicles and subassemblies thereof from China in the Federal Register.

M. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Appendix III

List of Topics Discussed in the Issues and Decision Memorandum

I. Summary

II. Background

III. Scope of the Investigation

IV. Final Affirmative Determination of Critical Circumstances

V. Subsidies Valuation

VI. Use of Facts Otherwise Available and Application of Adverse Inferences

VII. Analysis of Programs

VIII. Discussion of the Issues

Comment 1: Whether Commerce Should Revise its Analysis for the Purchase of Low-Speed Personal Transportation Vehicles for More than Adequate Remuneration (MTAR)

Comment 2: Whether Commerce Should Apply Adverse Facts Available (AFA) to the Government of China (GOC) Regarding Input Suppliers as Authorities

Comment 3: Whether Commerce Committed Clerical Errors When Calculating Lvtong's Rates for Certain Provision of Goods for Less Than Adequate Remuneration (LTAR) Programs

Comment 4: Critical Circumstances

Comment 5: The Provision of Electricity for LTAR

Comment 6: Whether Commerce Should Apply Partial AFA to Determine the Subsidy Rate for Xiamen Dalle's Inputs for LTAR Programs

Comment 7: Whether Commerce Should Correct its Calculation of Inland Feight Delivery Charges for Xiamen Dalle's LTAR Benchmarks from the Post-Preliminary Analysis

Comment 8: Whether Commerce Committed a Clerical Error in Adjusting Xiamen Dalle's Overall Subsidy Rate in the Post-Preliminary Analysis

Comment 9: Whether Commerce's Application of AFA to the GOC Prejudicially Affects Xiamen Dalle

IX. Recommendation

[FR Doc. 2025-11433 Filed 6-20-25; 8:45 am]

BILLING CODE 3510-DS-P